DEPARTMENT OF ENERGY

Federal Energy Regulatory Commission

[Docket No. EG05-78-000, et al.]

Top Deer Wind Ventures LLC, et al.; Electric Rate and Corporate Filings

July 6, 2005.

The following filings have been made with the Commission. The filings are listed in ascending order within each docket classification.

1. Top Deer Wind Ventures LLC

[Docket No. EG05-78-000]

Take notice that on June 30, 2005, Top Deer Wind Ventures LLC (Top Deer) filed an Application for Determination of Exempt Wholesale Generator Status pursuant to part 365 of the Commission's regulations. Top Deer states that it owns and operates, indirectly through its affiliates, a wind-powered eligible facility with a capacity of 80 MW which is located in Worth County, Iowa, and a wind-powered eligible facility with a capacity of 80 MW which is located near White Deer, Texas.

Comment Date: 5 p.m. Eastern Time on July 21, 2005.

2. TXU Collin Company LLC

[Docket No. EG05-79-000]

Take notice that on June 30, 2005, TXU Collin Company LLC (TXU Collin) tendered for filing an Application for Determination of Exempt Wholesale Generator Status.

Comment Date: 5 p.m. Eastern Time on July 21, 2005.

3. TXU Valley Company LLC

[Docket No. EG05-80-000]

Take notice that on June 30, 2005, TXU Valley Company LLC (TXU Valley) tendered for filing an Application for Determination of Exempt Wholesale Generator Status.

Comment Date: 5 p.m. Eastern Time on July 21, 2005.

4. Michigan Electric Transmission Company, LLC

[Docket No. ER04-847-003]

Take notice that on June 30, 2005, Michigan Electric Transmission Company, LLC (Michigan ETC), on behalf of itself and Michigan Public Power Agency and the Michigan South Central Power Agency, submitted a compliance filing as required by the Commission's orders issued October 27, 2004 and the March 29, 2005, Michigan Electric Transmission Company, LLC, 109 FERC ¶ 61,080 (2004), order on reh'g, 110 FERC ¶ 61,384 (2005).

Michigan ETC states that copies of the filing were served on all parties in this proceeding.

Comment Date: 5 p.m. Eastern Time on July 21, 2005.

Standard Paragraph

Any person desiring to intervene or to protest in any of the above proceedings must file in accordance with Rules 211 and 214 of the Commission's Rules of Practice and Procedure (19 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TYY, call (202) 502-8659.

Linda Mitry,
Deputy Secretary.

[FR Doc. E5-3756 Filed 7-14-05; 8:45 am]

BILLING CODE 6717-01-P